POSTAL REGULATORY COMMISSION

[Docket Nos. MC2015-8; Order No. 2254]

New Postal Product

AGENCY: Postal Regulatory Commission.

ACTION: Notice.

SUMMARY: The Commission is noticing a recent Postal Service filing concerning removal of Return Receipt for Merchandise service from the Mail Classification Schedule. This notice informs the public of the filing, invites public comment, and takes other administrative steps.

DATES: Comments are due: December 3, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

On November 17, 2014, the Postal Service filed a formal request to remove Return Receipt for Merchandise service from the Mail Classification Schedule (MCS).¹

¹ Request of the United States Postal Service to Remove Return Receipt for Merchandise Service from the Mail Classification Schedule, November 17, 2014 (Request).

To support its Request, the Postal Service filed a copy of the Governors' Decision authorizing the request, a Statement of Supporting Justification required by 39 CFR 3020.32, and proposed changes to the MCS.

The Postal Service seeks to remove Return Receipt for Merchandise service from both the Market Dominant and Competitive parts of the MCS. Request at 1; Attachment C. The Postal Service notes that the service does not provide purchasers with the ability to track packages online and is therefore outdated given the availability of alternative Ancillary Services that provide overlapping or improved features compared to those offered by Return Receipt for Merchandise. Id. at 2. The Postal Service states that the volumes and revenues for the service have declined over the past few years and that removal would allow the Postal Service to simplify the entire Ancillary Services product. Id. 2-3. The Postal Service also asserts that removal of the service will improve customer satisfaction by requiring customers to adopt alternative services that provide online tracking and other improved features. Id. at 3.

II. Notice of Filings

The Commission establishes Docket No. MC2015-8 to consider the Request pertaining to the proposed removal of Return Receipt for Merchandise service from the MCS.

Interested persons may submit comments on whether the Postal Service's filings in the captioned docket are consistent with the policies of 39 U.S.C. 3632, 3633, or 3642, 39 CFR part 3010, 39 CFR part 3015, and 39 CFR part 3020, subpart B and subpart E. Comments are due no later than December 3, 2014. The public portions of the filings can be accessed via the Commission's Web site (http://www.prc.gov).

The Commission appoints Anne C. O'Connor to serve as Public Representative in this docket.

III. Ordering Paragraphs

It is ordered:

1. The Commission establishes Docket No. MC2015-8 to consider the Postal Service's Request.

2. Pursuant to 39 U.S.C. 505, Anne C. O'Connor is appointed to serve as an officer of the Commission (Public Representative) to represent the interests of the general public in these proceedings.

3. Comments by interested persons in these proceedings are due no later than December 3, 2014.

4. The Secretary shall arrange for publication of this order in the Federal Register.

By the Commission.
Shoshana M. Grove,
Secretary.

[FR Doc. 2014-27812 Filed 11-24-14; 8:45 am]

BILLING CODE 7710-FW-P